DEPARTMENT OF ENERGY

Federal Energy Regulatory Commission

Notice of Availability of the Draft Environmental Impact Statement for the Proposed Nexus Gas Transmission Project and Texas Eastern Appalachian Lease Project

| Docket No.
NEXUS Gas Transmission, LLC | CP16-22-000
Texas Eastern Transmission, LP | CP16-23-000
DTE Gas Company | CP16-24-000
Vector Pipeline L.P | CP16-102-000

The staff of the Federal Energy Regulatory Commission (FERC or Commission) has prepared a draft environmental impact statement (EIS) for the NEXUS Gas Transmission (NGT) Project and Texas Eastern Appalachian Lease (TEAL) Project (jointly referred to as “Projects”), proposed by NEXUS Gas Transmission, LLC (NEXUS) and Texas Eastern Transmission, LP (Texas Eastern) in the above-referenced dockets. NEXUS and Texas Eastern request authorization to construct a new Greenfield pipeline and expand an existing pipeline system from the Appalachian Basin to deliver 1.5 million dekatherms per day to consuming markets in Northern Ohio, Southeastern Michigan, and Ontario, Canada. DTE Gas Company and Vector Pipeline L.P. are requesting approval to lease capacity on their systems to NEXUS.

The draft EIS assesses the potential environmental effects of the construction and operation of the Projects in accordance with the requirements of the National Environmental Policy Act. The FERC staff concludes that approval of the Projects would result in some adverse environmental impacts; however, most of these impacts would be reduced to less-than-significant levels with the implementation of NEXUS's and Texas Eastern's proposed mitigation measures and the additional recommendations in the draft EIS.

Some of the route alternatives suggested during scoping would affect landowners that have not been part of the FERC's environmental scoping process, as further discussed on page 5. Therefore, by this letter we are notifying these parties of our evaluation and requesting comments about the following alternative routes presented in section 3 of the draft EIS: City of Green Route Alternative, Chippewa Lake C Route Variation, and Reserve Avenue Route Variation.

The U.S. Fish and Wildlife Service (FWS) and U.S. Environmental Protection Agency (EPA) participated as cooperating agencies in the preparation of the draft EIS. Cooperating agencies have jurisdiction by law or special expertise with respect to resources potentially affected by the proposal and participate in the National Environmental Policy Act analysis. Although the FWS and EPA provided input to the conclusions and recommendations presented in the draft EIS, the FWS and EPA will each present its own conclusions and recommendations in its respective record of decision or determination for the Projects.

The draft EIS addresses the potential environmental effects of the construction and operation of both the NGT and TEAL Projects. The NGT Project consists of about 255.9 miles of pipeline composed of the following facilities:

• 208.9 miles of new 36-inch-diameter natural gas pipeline in Ohio;

• 47 miles of new 36-inch-diameter natural gas pipeline in Michigan;

• associated equipment and facilities.

The TEAL Project would include two main components:

• 4.4 miles of new 36-inch-diameter loop pipeline in Ohio;

• 0.3 mile of new 30-inch-diameter interconnecting pipeline Ohio; and

• associated equipment and facilities.

The Projects' proposed aboveground facilities include five new compressor stations in Ohio; additional compression and related modifications to one existing compressor station in Ohio; five new metering and regulating stations in Ohio; one new metering and regulating station in Michigan; and minor modifications at existing aboveground facilities at various locations across Ohio.

The FERC staff mailed copies of the draft EIS to federal, state, and local government representatives and agencies; elected officials; environmental and public interest groups; Native American tribes; potentially affected landowners and other interested individuals and groups; and newspapers and libraries near the Projects. Paper copy versions of this draft EIS were mailed to those specifically requesting them; all others received a CD version. In addition, the draft EIS is available for public viewing on the FERC's Web site (www.ferc.gov) using the eLibrary link.

A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before August 29, 2016.

For your convenience, there are four methods you can use to submit your comments to the Commission. In all instances, please reference the Projects' docket numbers (CP16-22-000 for the NGT Project and CP16-23-000 for the TEAL Project) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project.

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type.

(3) You can file a paper copy of your comments by mailing them to the following address: Nathaniel J. Davis, Sr., Deputy Secretary, Federal Energy Regulatory Commission, 888 First Street NE., Room 1A, Washington, DC 20426.

(4) In lieu of sending written or electronic comments, the Commission invites you to attend one of the public comment meetings its staff will conduct in the Project areas to receive comments on the draft EIS. We ¹ encourage interested groups and individuals to attend and present oral comments on the draft EIS at any of the meeting locations provided on page 4.

¹ “We,” “us,” and “our” refer to the environmental staff of the FERC's Office of Energy Projects.

There will not be a formal start of the meeting nor a formal presentation by Commission staff, but FERC staff will be available to answer your questions about the environmental review process. You may arrive at any time after 5:00 p.m. and we will stop taking comments at 10:00 p.m. Eastern Time Zone. The primary goal is to have your verbal environmental comments on the draft EIS documented in the public record.

Date | Location
August 10, 2016 | Swanton High School, 604 North Main Street, Swanton, OH 43558, (419) 826-3045.
August 11, 2016 | Tecumseh Center for the Arts, 400 North Maumee Street, Tecumseh, MI 49286, (517) 423-6617.
August 15, 2016 | Quality Inn, Fremont, 3422 Port Clinton Road, Fremont, OH 43420, (419) 332-0601.
August 16, 2016 | Elyria High School Performing Arts Center, 601 Middle Avenue, Elyria, OH 44035, (440) 284-5209.
August 17, 2016 | Wadsworth High School—James A. Mcilvaine Performing Arts Center, 625 Broad Street, Wadsworth, OH 44281, (330) 335-1369.
August 18, 2016 | Green High School, 1474 Boettler Road, Uniontown, OH 44685, (330) 896-7575.

Verbal comments will be recorded by court reporter(s) and transcriptions will be placed into the docket for the Projects and made available for public viewing on FERC's eLibrary system (see page 5 for instructions on using eLibrary). It is important to note that verbal comments hold the same weight as written or electronically submitted comments. If a significant number of people are interested in providing verbal comments, a time limit of 3 to 5 minutes may be implemented for each commenter to ensure all those wishing to comment have the opportunity to do so within the designated meeting time. Time limits will be strictly enforced if they are implemented.

Any person seeking to become a party to the proceeding must file a motion to intervene pursuant to Rule 214 of the Commission's Rules of Practice and Procedures (Title 18 Code of Federal Regulations Part 385.214).² Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

² See the previous discussion on the methods for filing comments.

Route Alternatives

As indicated on page 1, some landowners are receiving this draft EIS because their property has been identified as potentially being affected by certain route alternatives recommended or being considered by FERC staff to avoid or lessen environmental impacts along NEXUS's proposed pipeline route in several locations. Refer to discussions in section 3.3.3 of the draft EIS for the City of Green Route Alternative, section 3.4.10 for the Chippewa Lake C Route Variation, and section 3.4.12 for the Reserve Avenue Route Variation. Please note that while staff has recommended the use of the last two listed alternatives, a decision whether or not to recommend the use of the City of Green Route Alternative has not been made. The Commission staff wants to ensure that all potentially affected landowners have the opportunity to participate in the environmental review process, thus staff is soliciting comments to assist with the environmental analysis of these route alternatives, which will be presented in the final EIS.

Questions?

Additional information about the Projects is available from the Commission's Office of External Affairs, at (866) 208-FERC, or on the FERC Web site (www.ferc.gov) using the eLibrary link. Click on the eLibrary link, click on “General Search,” and enter the docket number excluding the last three digits in the Docket Number field (i.e., CP16-22). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp to subscribe.

Dated: July 8, 2016.
Nathaniel J. Davis, Sr.,
Deputy Secretary.

[FR Doc. 2016-16662 Filed 7-13-16; 8:45 am]

BILLING CODE 6717-01-P